ENVIRONMENTAL PROTECTION AGENCY

[FRL-7987-1]

Agency Information Collection Activities OMB Responses

AGENCY: Environmental Protection Agency (EPA).

ACTION: Notice.

SUMMARY: This document announces the Office of Management and Budget's (OMB) response to Agency Clearance requests in compliance with the Paperwork Reduction Act (44 U.S.C. 3501 et. seq). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 0002.12; National Pretreatment Program: Streamlining Final Rule; in 40 CFR 403.1-403.20; 40 CFR 437; 40 CFR 437.41; 40 CFR 105; 40 CFR 455.41; 40 CFR 123.24; 40 CFR 123.62; 40 CFR 122.42(b)(2); was approved 09/22/2005; OMB Number 2040-0009; expires 09/30/2007.

EPA ICR No. 1895.03; Microbial Rules (Renewal); in 40 CFR 141.21; 40 CFR 141.31(a)-(c) and (e); 40 CFR 141.33(a)-(d); 40 CFR 141.75-141.76; 40 CFR 141.170-141.175(a)-(b); 40 CFR 141.530-141.536; 40 CFR 141.540-141.544; 40 CFR 141.550-141.553; 40 CFR 141.560-141.564; 40 CFR 141.570-141.571; 40 CFR 142.14(a); 40 CFR 142.15(a)(1) and (2); 40 CFR 142.15(c)(1)-(5); 40 CFR 142.16(b), (g), (i) and (j); was approved 09/21/2005; OMB Number 2040-0205; expires 09/30/2008.

EPA ICR No. 1597.07; Requirements and Exemptions for Specific RCRA Wastes (Final Rule for Adding Mercury-Containing Equipment to the Universal Waste Rule); in 40 CFR part 273; 40 CFR 266.230; 40 CFR 266.240; 40 CFR 266.245; 40 CFR 266.250; 40 CFR 266.345; 40 CFR 266.355; 40 CFR 266.360; was approved 10/05/2005; OMB Number 2050-0145; expires 02/29/2008.

EPA ICR No. 1688.05; RCRA Expanded Public Participation (Renewal); in 40 CFR 124.31; 40 CFR 124.32; 40 CFR 124.33; 40 CFR 270.62; 40 CFR 270.66; was approved 10/05/2005; OMB Number 2050-0149; expires 10/31/2008.

EPA ICR No. 0976.12; 2005 Hazardous Waste Report (Renewal); in 40 CFR 262.40(b) and (d); 262.41(a)(1-5), (a)(8), and (b); 264.75(a)-(e) and (j); 265.75(a)-(e) and (j); and 270.30(l)(9); was approved 10/04/2005; OMB Number 2050-0024; expires 10/31/2007.

EPA ICR No. 0229.16; NPDES and Sewage Sludge Monitoring Reports (Renewal); in 40 CFR 122.21, 40 CFR 122.26(b)(14), 40 CFR 122.41(j)(1-2), 40 CFR 122.41(l)(4), 40 CFR 501.15(b), 40 CFR 503.16-503.18, 40 CFR 503.26-28, 40 CFR 503.46-48; was approved 09/13/2005; OMB Number 2040-0004; expires 09/30/2008.

EPA ICR No. 0270.42; Public Water System Supervision Program (Renewal); in 40 CFR 141.2; 40 CFR 141.4; 40 CFR 141.11-141.15; 40 CFR 141.22; 40 CFR 141.25; 40 CFR 141.27-141.30; 40 CFR 141.31(d); 40 CFR 141.32(a)-(g); 40 CFR 141.33(e); 40 CFR 141.41; 40 CFR 141.50-141.52; 40 CFR 141.60-141.63; 40 CFR 141.70-141.74; 40 CFR 141.100; 40 CFR 141.110; 40 CFR 141.140-141.144; 40 CFR 141.153-141.154; 40 CFR 141.155(a)-(g)(1) and (h); 40 CFR 141.175(c); 40 CFR 141.201-141.210; 40 CFR 142.2-142.3; 40 CFR 142.10-142.12; 40 CFR 142.14(b)-(d)(1) and (e)-(g); 40 CFR 142.15(a)-(b) and (d); 40 CFR 142.16(a), (c) and (f); 40 CFR 142.17-142.24; 40 CFR 142.41; 40 CFR 142.51; 40 CFR 142.56-142.57; 40 CFR 142.60-142.64; 40 CFR 142.70-142.78; 40 CFR 142.142.81; 40 CFR 142.306-142.308; 40 CFR 142.311-142.312; was approved 09/13/2005; OMB Number 2040-0090; expires 09/30/2008.

EPA ICR No. 1680.04; Combined Sewer Overflow Control Policy (Renewal); was approved 09/13/2005; OMB Number 2040-0170; expires 09/30/2008.

EPA ICR No. 1773.08; NESHAP for Hazardous Waste Combustors (Final Phase 1 Rule); in 40 CFR part 63, subpart EEE; was approved 09/14/2005; OMB Number 2050-0171; expires 09/30/2008.

EPA ICR No. 1944.03; Baseline Standards and Best Management Practices for the Coal Mining Point Source Category—Coal Remining Subcategory and Western Alkaline Coal Mining Subcategory (Renewal); in 40 CFR 434.72-434.75, 40 CFR 434.82-434.85; was approved 09/14/2005; OMB Number 2040-0239; expires 09/30/2008.

EPA ICR No. 2144.02; Standards and Practices for All Appropriate Inquires (Final Rule); in 40 CFR 312.20-312.31; was approved 09/15/2005; OMB Number 2050-0197; expires 09/30/2008.

EPA ICR No. 2152.02; Clean Air Interstate Rule to Reduce Interstate Transport of Fine Particle Matter and Ozone (Final Rule); in 40 CFR part 51; 40 CFR part 72; 40 CFR part 73; 40 CFR part 74; 40 CFR part 77; 40 CFR part 78; 40 CFR part 96; was approved 09/19/2005; OMB Number 2060-0570; expires 09/30/2008.

EPA ICR No. 0969.07; Final Authorization for Hazardous Waste Management; in 40 CFR part 271; was approved 09/20/2005; OMB Number 2050-0041; expires 09/30/2008.

EPA ICR No. 0160.08; Pesticide Registration Application, Notification and Report for Pesticide Producing Establishments (Renewal); in 40 CFR part 167; was approved 09/20/2005; OMB Number 2070-0078; expires 09/30/2008.

EPA ICR No. 1850.04; NESHAP for Primary Copper Smelters (Renewal); in 40 CFR part 63, subpart QQQ; was approved 09/20/2005; OMB Number 2060-0476; expires 09/30/2008.

EPA ICR No. 1608.04; State Program Adequacy Determination: Municipal Solid Waste Landfills (MSWLFs) and Non-municipal, Non-hazardous Waste Disposal Units that Receive Conditionally Exempt Small Quantity Generator (CESQG) Hazardous Waste (Renewal); in 40 CFR part 239; was approved 09/19/2005; OMB Number 2050-0152; expires 09/30/2008.

EPA ICR No. 1985.03; NESHAP for Leather Finishing Operations (Renewal); in 40 CFR part 63, subpart TTTT; was approved 09/20/2005; OMB Number 2060-0478; expires 09/30/2008.

EPA ICR No. 2206.01; Small Partner Environmental Exchange Project; was approved 10/06/2005; OMB Number 2025-0005; expires 04/30/2006.

EPA ICR No. 2204.01; Expert Elicitation of the Association of PM2.5 Exposure and Mortality; was approved 10/11/2005; OMB Number 2060-0575; expires 04/30/2006.

Disapproved

EPA ICR No. 2169.01; Cooling Water Intake Structures at Phase III Facilities (Proposed Rule); was disapproved 09/13/2005 by OMB.

Comment Filed

EPA ICR No. 2195.01; Submission of Protocols and Study Reports for Environmental Research Involving Human Subjects (Proposed Rule); on 10/05/2005 OMB filed comment.

Dated: October 14, 2005.
Richard Westlund,
Acting Director, Collection Strategies Division.

[FR Doc. 05-21095 Filed 10-20-05; 8:45 am]

BILLING CODE 6560-50-P